INTERNATIONAL TRADE COMMISSION

[Investigation Nos. 701-TA-472 and 731-TA-1171-1172 (Preliminary)]

Certain Standard Steel Fasteners From China and Taiwan; Determinations

On the basis of the record ¹ developed in the subject investigations, the United States International Trade Commission (Commission) determines, pursuant to sections 703(a) and 733(a) of the Tariff Act of 1930 (19 U.S.C. 1671b(a) and 1673b(a)) (the Act), that there is no reasonable indication that an industry in the United States is materially injured or threatened with material injury, or that the establishment of an industry in the United States is materially retarded, by reason of imports from China and Taiwan of certain standard steel fasteners (“CSSF”), provided for in subheadings 7318.15.20, 7318.15.80, and 7318.16.00 of the Harmonized Tariff Schedule of the United States. CSSF imported from China are alleged to be subsidized and sold in the United States at less than fair value (LTFV). CSSF imported from Taiwan are alleged to be sold in the United States at LTFV.

¹ The record is defined in sec. 207.2(f) of the Commission's Rules of Practice and Procedure (19 CFR 207.2(f)).

Background

On September 23, 2009, petitions were filed with the Commission and Commerce by Nucor Fastener Division, St. Joe, Indiana, alleging that an industry in the United States is materially injured and threatened with material injury by reason of LTFV and subsidized imports of CSSF from China and LTFV imports of CSSF from Taiwan. Accordingly, effective September 23, 2009, the Commission instituted countervailing duty investigation No. 701-TA-472 and antidumping duty investigations Nos. 731-TA-1171-1172 (Preliminary).

Notice of the institution of the Commission's investigations and of a public conference to be held in connection therewith was given by posting copies of the notice in the Office of the Secretary, U.S. International Trade Commission, Washington, DC, and by publishing the notice in the Federal Register of September 29, 2009 (74 FR 49889). The conference was held in Washington, DC, on October 14, 2009, and all persons who requested the opportunity were permitted to appear in person or by counsel.

The Commission transmitted its determinations in these investigations to the Secretary of Commerce on November 9, 2009. The views of the Commission are contained in USITC Publication 4109 (November 2009), entitled Certain Standard Steel Fasteners from China and Taiwan: Investigation Nos. 701-TA-472 and 731-TA-1171-1172 (Preliminary).

By order of the Commission.
Issued: November 9, 2009.
Marilyn R. Abbott,
Secretary to the Commission.

[FR Doc. E9-27375 Filed 11-13-09; 8:45 am]

BILLING CODE 7020-02-P